DEPARTMENT OF TRANSPORTATION

Pipeline and Hazardous Materials Safety Administration

Office of Hazardous Materials Safety; Notice of Application for Special Permits

AGENCY: Pipeline and Hazardous Materials Safety Administration, DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 23, 2005.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permits is published in accordance with Part 107 of the Federal hazardous materials transportation law (49 U.S.C. 5117(b); 49 CFR 1.53(b)).

Issued in Washington, DC, on November 17, 2005.
R. Ryan Posten,
Chief, Special Permits Program, Office of Hazardous Materials Special Permits & Approvals.

New Special Permits
Application No. | Docket No. | Applicant | Regulation(s) affected | Nature of special permits thereof
14266-N |  | NCF Industries, Inc. | 49 CFR 173.302a, 173.304a | To authorize the manufacture, mark, sale and use of non-DOT specification fiber reinforced hoop wrapped cylinders with water capacities with water capacities of up to 120 cubic feet for use in transporting certain Class 2 gases. (modes 1, 2, 3, 4, 5)
14267-N |  | Department of Energy | 49 CFR 173.417(a)(1) | To authorize the transportation in commerce of waste fissile uranium contaminated equipment in DOT 7A, Type A packaging when transported by motor vehicle or rail. (modes 1, 2)
14269-N |  | Texmark Chemicals, Inc. Galena Park, TX | 49 CFR 177.834(i); and 174.67(j) | To authorize alternative attendance requirements for loading and unloading Class 3 flammable liquids transported by motor vehicle and rail in cargo tanks, portable tanks and rail cars. (modes 1, 2)
14270-N |  | Piper Metal Forming Corporation New Albany, MS | 49 CFR 173.302a, 173.304a | To authorize the manufacture, mark, sale and use of non-DOT specification cylinders conforming to all regulations applicable to a DOT specification 3AL cylinder except that the material of construction is aluminum alloy 6969. (modes 1, 2, 3, 4, 5)
14271-N |  | Florida Power and Light Co. Jensen Beach, FL | 49 CFR 173.403, 173.427(b), 173.465(c) and (d) | To authorize the transportation in commerce of a Class 7 nuclear reactor head in alternative packaging. (modes 1, 3)
14272-N |  | Arrow Tank and Engineering Co. Minneapolis, MN | 49 CFR 173.5a | To authorize the transportation in commerce of a non-specification cargo tank (volumetric meter prover) containing the residue of a Division 2.1 material. (mode 1)
14273-N |  | Garden State Tobacco d/b/a H.J. Bailey Co. Neptune, NJ | 49 CFR 172.102 Special provision N10; 173.308 | To authorize the transportation in commerce of lighters in non-DOT specification packaging without marking the approval number (T number) on the outer package. (mode 1)
14274-N |  | Horiba Instruments, Inc. Irvine, CA | 49 CFR 177.834(h) | To authorize the discharge of a Division 2.1 material from an authorized DOT specification cylinder without removing the cylinder from the vehicle on which it is transported. (mode 1)
14275-N |  | Hawk FRP, LLC Ardmore, OK | 49 CFR 178.345 | To authorize the manufacture, mark, sale and use of non-DOT specification cargo tanks construct of fiberglass reinforced plastic for use in transporting various hazardous materials. (mode 1)
14276-N |  | Environmental Packaging Technologies Atkinson, NH | 49 CFR 173.12(b) | To authorize the manufacture, marking and sale of a corrugated fiberboard box for use as the outer packaging for lab pack applications. (mode 1)
14277-N |  | Ascus Technologies, Ltd | 49 CFR 172.102(c)(3) Special provision B32 and 173.242 | To authorize the manufacture, marking, sale and use of non-DOT specification multi-wall carbon/epoxy composite cargo tank motor vehicle. (mode 1)
14279-N | PHMSA-23028 | Airgas, Inc. Cheyenne, WY | 49 CFR 173.40; 173.304 | To authorize the transportation in commerce of hydrogen sulfide in DOT specification cylinders with a service pressure of 480 psig. (modes 1, 3)
14280-N | PHMSA-23029 | Albemarle Corporation | 49 CFR 173.226(a) | To authorize the one-time transportation in commerce of bromine in DOT-specification 4BW cylinders by motor vehicle. (mode 1)
14281-N | PHMSA-23027 | Inflation Systems, Inc. Moses Lake, WA | 49 CFR173.56(b), 173.61(a) | To authorize the transportation in commerce of certain scrap airbag inflators, seat belt pretensioners and/or airbag modules classified as Division 1.3C explosive articles.

[FR Doc. 05-23169 Filed 11-22-05; 8:45 am]

BILLING CODE 4909-60-M